DEPARTMENT OF THE INTERIOR

Bureau of Land Management

[UTU 010063]

Public Land Order No. 7632; Partial Revocation of Public Land Order No. 2354 and Revocation of Secretarial Order Dated January 27, 1908; Utah

AGENCY: Bureau of Land Management, Interior.

ACTION: Public Land Order.

SUMMARY: This order partially revokes a Public Land Order and revokes a Secretarial Order in its entirety insofar as they affect approximately 1,339 acres of National Forest System lands withdrawn for administrative and public service sites, recreation areas, and roadside zones. This order opens the lands to such forms of disposition as authorized by law on National Forest System lands and to mining.

EFFECTIVE DATE: May 27, 2005.

FOR FURTHER INFORMATION CONTACT: Marsha Fryer, Forest Service, Intermountain Region, 324-25th Street, Ogden, Utah 84401-2310, 801-625-5802.

SUPPLEMENTARY INFORMATION: The Forest Service has determined that these lands no longer need to be withdrawn and has requested the revocations.

Order

By virtue of the authority vested in the Secretary of the Interior by Section 204 of the Federal Land Policy and Management Act of 1976, 43 U.S.C. 1714 (2000), it is ordered as follows:

1. Public Land Order No. 2354, which withdrew National Forest System lands for administrative and public service sites, recreation areas, and roadside zones, is hereby revoked insofar as it affects the following described lands:

Fishlake National Forest

Salt Lake Meridian

Christiansen Spring Administrative Site

T. 25 S., R. 1 W.,

sec. 18, SW¼SW¼ lot 1, and NW¼NW¼ lot 2.

T. 25 S., R. 2 W.,

sec. 13, SE¼SE¼NE¼NE¼ and NE¼NE¼SE¼NE¼.

Forshea Mountain Administrative Site

T. 29 S., R. 2½ W.,

sec. 13, NW¼NW¼ and N½N½SW¼NW¼.

Lisonbee Spring Administrative Site

T. 21 S., R. 4 E.,

sec. 34, SW¼NW¼.

Meadow Creek Recreation Area

T. 22 S., R. 4 W.,

sec. 20, E½E½NE¼SW¼ and NW¼SE¼.

Meadow Gulch Administrative Site

T. 23 S., R. 3 E.,

sec. 14, SE¼SE¼;

sec. 23, NE¼NE¼.

Mountain Ranch Administrative Site

T. 22 S., R. 3 E.,

sec. 15, lots 1, 2, 3, and 4, and W½.

Musinia Administrative Site

T. 21 S., R. 3 E.,

sec. 4, SW¼SW¼.

Pioneer Administrative Site

T. 21 S., R. 3 W., partly unsurveyed,

sec. 1, W½SE¼;

sec. 12, NW¼NE¼.

Radford Administrative Site

T. 17 S., R. 3 W.,

sec. 8, E½NW¼ and W½NE¼.

Soldier Fork Administrative Site

T. 22 S., R. 1 E.,

sec. 4, NW¼SW¼.

Solitude Administrative Site

T. 22 S., R. 3 W.,

sec. 23, N½NW¼.

The areas described aggregate approximately 1,200 acres in Millard, Piute, and Sevier Counties.

2. The Secretarial Order dated January 27, 1908, which withdrew the following described National Forest System land for the Redview Administrative Site, is hereby revoked in its entirety:

Fishlake National Forest

Salt Lake Meridian

T. 23 S., R. 4 W., unsurveyed.

A tract of land containing approximately 139 acres in Sevier County.

3. At 10 a.m. on May 27, 2005, all of the lands described in this order shall be opened to such forms of disposition as authorized by law on National Forest System lands, including location and entry under the United States mining laws, subject to valid existing rights, the provisions of existing withdrawals, other segregations of record, and the requirements of applicable law. Appropriation of lands described in this order under the general mining laws prior to the date and time of restoration is unauthorized. Any such attempted appropriation, including attempted adverse possession under 30 U.S.C. 38 (2000), shall vest no rights against the United States. Acts required to establish a location and to initiate a right of possession are governed by State law where not in conflict with Federal law. The Bureau of Land Management will not intervene in disputes between rival locators over possessory rights since Congress has provided for such determinations in local courts.

Dated: April 1, 2005.
Rebecca W. Watson,
Assistant Secretary—Land and Minerals Management.

[FR Doc. 05-8363 Filed 4-26-05; 8:45 am]

BILLING CODE 3410-11-P